DEPARTMENT OF COMMERCE

National Oceanic and Atmospheric Administration

[RTID 0648-XA945]

North Pacific Fishery Management Council; Public Meeting

AGENCY: National Marine Fisheries Service (NMFS), National Oceanic and Atmospheric Administration (NOAA), Commerce.

ACTION: Notice of webconference.

SUMMARY: The North Pacific Fishery Management Council (NPFMC) Enforcement Committee will meet March 31, 2021.

DATES: The meeting will be held on Wednesday, March 31, 2021 from 1 p.m. to 3 p.m., Alaska time.

ADDRESSES: The meeting will be a webconference. Join online through the link at https://meetings.npfmc.org/Meeting/Details/1965.

Council address: North Pacific Fishery Management Council, 1007 W 3rd Ave., Anchorage, Alaska 99501-2252; telephone (907) 271-2809. Instructions for attending the meeting are given under Supplementary Information, below.

FOR FURTHER INFORMATION CONTACT: Jon McCracken, Council staff; phone; (907) 271-2809 and email: jon.mccracken@noaa.gov. For technical support please contact administrative Council staff, email: npfmc.admin@noaa.gov.

SUPPLEMENTARY INFORMATION:

Agenda

Wednesday, March 31, 2021

The Enforcement Committee will review Council agenda item D3 RQE funding mechanism discussion paper. The paper examines a mechanism for the RQE to fund the purchase of halibut quota share be selling halibut stamps to charter operators. The agenda is subject to change, and the latest version will be posted at https://meetings.npfmc.org/Meeting/Details/1965 prior to the meeting, along with meeting materials.

Connection Information

You can attend the meeting online using a computer, tablet, or smart phone; or by phone only. Connection information will be posted online at: https://meetings.npfmc.org/Meeting/Details/1965.

Public Comment

Public comment letters will be accepted and should be submitted electronically to https://meetings.npfmc.org/Meeting/Details/1965.

Authority: 16 U.S.C. 1801 et seq.

Dated: March 12, 2021.
Tracey L. Thompson,
Acting Deputy Director, Office of Sustainable Fisheries, National Marine Fisheries Service.

[FR Doc. 2021-05538 Filed 3-16-21; 8:45 am]

BILLING CODE 3510-22-P